DEPARTMENT OF HOUSING AND URBAN DEVELOPMENT

[Docket No. FR-5609-N-01]

Notice of Proposed Information Collection for Public Comment: Choice Neighborhoods Evaluation, Phase I

AGENCY: Office of the Assistant Secretary for Policy Development and Research, HUD.

ACTION: Notice.

SUMMARY: The proposed information collection requirement described below will be submitted to the Office of Management and Budget (OMB) for review, as required by the Paperwork Reduction Act. The Department is soliciting public comments on the subject proposal.

DATES: Comment Due Date: March 19, 2012.

ADDRESSES: Interested persons are invited to submit comments regarding this proposal. Comments should refer to the proposal by name and/or OMB Control Number and should be sent electronically to Paul.A.Joice@hud.gov or in hard copy to: Paul Joice, Office of Policy Development and Research, Department of Housing and Urban Development, 451 7th Street SW., Room 8120, Washington, DC 20410-6000. Please use “Choice Neighborhoods Evaluation PRA Comment” in the subject line of any email.

FOR FURTHER INFORMATION CONTACT: Paul Joice at (202) 402-4608 (this is not a toll-free number) or Paul.A.Joice@hud.gov, for copies of the proposed forms and other available documents. Please use “Choice Neighborhoods Evaluation PRA Comment” in the subject line of any email.

SUPPLEMENTARY INFORMATION: The Department of Housing and Urban Development will submit the proposed extension of information collection to OMB for review, as required by the Paperwork Reduction Act of 1995 (44 U.S.C. Chapter 35, as amended). This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond; including through the use of appropriate automated collection techniques or other forms of information technology, e.g., permitting electronic submission of responses.

This Notice also lists the following information:

Title of Proposal: Choice Neighborhoods Evaluation, Phase I.

OMB Control Number: Pending.

Description of the Need for the Information and Proposed Use: HUD is conducting an evaluation of the Choice Neighborhoods Initiative, focused on the initial round of grants funded in August 2011. This evaluation requires the collection of information from households living in the Choice Neighborhoods sites. This proposed information collection will support the first phase of the evaluation, which is focused on studying implementation of the grants and establishing a baseline for long-term evaluation of program outcomes. The information collection is necessary to understand the experience of the residents in the Choice Neighborhood sites.

Agency Form Numbers: None.

Members of the Affected Public: This information collection request will affect residents in assisted and unassisted housing in each of the sites. We will use a longitudinal resident tracking survey to examine resident outcomes over time. To monitor outcomes for assisted housing residents, the research team proposes conducting a multi-wave survey that tracks a representative sample of the original assisted housing residents during implementation and revitalization of the site. The survey will track outcomes of interest, including housing location and quality; and resident physical and mental health, safety, employment, and education.

To assess the outcomes of assisted residents, we will sample from the public housing developments at each site, including residents at the time of the survey as well as residents who relocated during 2012. We will oversample special populations (e.g., disabled, seniors, large families, or limited English proficiency households) when appropriate. Our research design calls for the collection of a random sample at the Chicago and New Orleans sites, and assumes 250 completed surveys. At the Boston site we will obtain 100 completed surveys (i.e., as complete coverage as possible of the occupied units, with no oversampling). In the event that funding becomes available to support a survey of assisted residents at the Seattle and San Francisco sites, we will obtain 250 completed surveys at each site.

To allow for comparisons between assisted-households in units that will be transformed by the CNI and those in the neighborhood, the content of the unassisted resident survey and the assisted-resident will be as similar as possible. Part of this task will be to define the appropriate neighborhood boundary for the survey. Our goal is to have a minimum of 250 completed interviews with unassisted residents, with a larger sample in sites with bigger neighborhoods. Units will be drawn from a random sample of housing units in the defined neighborhood.

Estimation of the total number of hours needed to prepare the information collection including number of respondents, frequency of response, and hours of response: The following chart details the respondent burden:

| Assisted households | Other households | Total households | Hours per response | Total hours
New Orleans | 250 | 250 | 500 | .75 | 375
Chicago | 250 | 250 | 500 | .75 | 375
Boston | 100 | 250 | 350 | .75 | 262.5
Seattle | 250 | 250 | 500 | .75 | 375
San Francisco | 250 | 250 | 500 | .75 | 375
Total | 1,100 | 1,250 | 2,350 | .75 | 1,762.5

Status of the proposed information collection: Pending OMB approval.

Authority: Section 3506 of the Paperwork Reduction Act of 1995, 44 U.S.C. Chapter 35, as amended.

Dated: January 10, 2012.
Raphael W. Bostic,
Assistant Secretary for Policy Development and Research.

[FR Doc. 2012-1006 Filed 1-18-12; 8:45 am]

BILLING CODE 4210-67-P